DEPARTMENT OF TRANSPORTATION

Federal Highway Administration

[Docket No. FHWA-2016-0010]

Agency Information Collection Activities: 30 Day Extension of a Notice of Request for Approval of a New Information Collection

AGENCY: Federal Highway Administration (FHWA), DOT.

ACTION: REVISION of a Notice of Request for Approval of a New Information Collection.

SUMMARY: The FHWA invited public comments about our intention to request the Office of Management and Budget's (OMB) approval of a new information collection that is summarized below under supplementary information. The FHWA also invites public comments on the design of the survey instrument and questions for the National Transportation Performance Management (TPM) Review Survey. A document containing the draft survey and survey design report is available at http://www.fhwa.dot.gov/tpm/engage/docs/questions.pdf. FHWA has received a request to extend the comment period in order to provide more time to evaluate the proposed revisions. FHWA is extending the comment period to May 31, 2016. We published a Federal Register Notice with a 60-day public comment period on this information collection on June 23, 2015. We are required to publish this notice in the Federal Register by the Paperwork Reduction Act of 1995.

DATES: Please submit comments by May 31, 2016.

ADDRESSES: You may send comments within 30 days to the Office of Information and Regulatory Affairs, Office of Management and Budget, 725 17th Street NW., Washington, DC 20503, Attention DOT Desk Officer. You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information. All comments should include the Docket No. FHWA-2016-0010.

FOR FURTHER INFORMATION CONTACT: Michael Nesbitt (michael.nesbitt@dot.gov), 202-366-1179, Office of Infrastructure, Federal Highway Administration, Department of Transportation, 1200 New Jersey Avenue SE., Washington, DC 20590. Office hours are from 8 a.m. to 5 p.m., Monday through Friday, except Federal holidays.

SUPPLEMENTARY INFORMATION:

Title: National Transportation Performance Management (TPM) Implementation Review, TPM Toolbox, and TPM State-of-Practice Questionnaires.

Type of request: New information collection requirement.

Background: Moving The Moving Ahead for Progress in the 21st Century (MAP-21) Act and the subsequent Fixing America's Surface Transportation Act (FAST Act) transformed the Federal-aid highway program by establishing new requirements for transportation performance management to ensure the most efficient investment of Federal transportation funds. Transportation performance management increases the accountability and transparency of the Federal-aid highway program and provides for a framework to support improved investment decision making through a focus on performance outcomes for key national transportation goals. State transportation agencies (STAs) will be expected to use the information and data generated as a result of the new regulations to make better informed transportation planning and programming decisions. The new performance aspects of the Federal-aid program will allow FHWA to better communicate a national performance story and to more reliably assess the impacts of Federal funding investments.

Under the “National Transportation Performance Management (TPM) Implementation Review Survey, TPM State-of-Practice Questionnaires, and TPM Toolbox” information collection request (ICR), the FHWA will collect information on the current state of the practice, data, methods, and systems used by State, metropolitan, regional, local, and/or tribal transportation entities to support their TPM processes in accordance with 23 U.S.C. 119, 134-135, and 148-150, as amended by MAP-21 and the FAST Act. This information will also be used to develop and deliver existing and future Federal Highway Programs through successful partnerships, value-added stewardship, and risk-based oversight. Underpinning this effort will be a robust focus on improving FHWA and its partners' capacity to implement performance provisions. The information collected from these activities will translate into having a better skilled workforce, effective supporting systems, and clearly articulated programs that are optimally positioned and equipped to deliver the FHWA's mission. In general, the components of the “National TPM Implementation Review Survey, TPM State-of-Practice Questionnaires, and TPM Toolbox” will involve questions related to:

1. TPM related implementation efforts, programs, and activities,

2. Needs for TPM guidance and policy concerning MAP-21 and FAST provisions;

3. TPM capacity building needs;

4. Effectiveness implementing performance based planning and programming and TPM processes.

The most consequential activity covered by this ICR is the “National TPM Implementation Review Survey,” which is scheduled to be administered in 2016 and again several years later.

Overview:

In the summer of 2015, the Federal Highway Administration (FHWA) published the National TPM Implementation Review Survey and Information Collection Request, Docket FHWA-2015-0013. In that 60-day Federal Register Notice (FRN), FHWA stated it would administer the first National TPM Implementation Review Survey in 2016 to establish a baseline and assess:

1. FHWA and its partners' progress implementing MAP-21 performance provisions and related TPM best practices; and

2. The effectiveness of performance-based planning and programming processes and transportation performance management.

In that FRN, FHWA also stated that a second National TPM Implementation Review Survey will be conducted several years after the first to assess FHWA and its partners' progress in addressing any gaps or issues identified during the first survey. The findings from the first review survey will be used in a pair of statutory reports to Congress due in 2017 on the effectiveness of performance-based planning, programming processes, and transportation performance management (23 U.S.C. 119, 134(l)(2), and 135(h)(2)). The findings from the second survey will be used in a subsequent follow-up report. It is important to note that this is not a compliance review. The overall focus of the National TPM Implementation Review Survey is on the TPM and performance-based planning processes and practices used by STAs and MPOs, not the performance outcomes of those processes.

FHWA received 20 comment letters and over 24 unique comments. While a number of concerns were expressed by the commenters, they generally supported the information collection request outlined in the FRN. Regarding the National TPM Implementation Review Survey, stakeholders were most concerned about the estimated burden of effort and time for administration of the survey. Based on those specific comments to the docket, it became clear that a majority of responding States, MPOs, and their respective associations want FHWA to: (1) “coordinate with stakeholders when developing” the design of any TPM surveys, questionnaires, or related instruments; (2) Provide more information on the type of questions to be asked as part of the National TPM Implementation Review Survey and any State-of-Practice Questionnaires; (3) Minimize the burden of effort to the greatest extent practicable; (4) Delay administration of National TPM Implementation Review Survey until after the final rulemakings; and (5) Share data from the National TPM Implementation Review Survey with States, MPOs, and their respective associations to support the development of federally and state funded TPM capacity building efforts.

To address the first three concerns listed in the preceding paragraph, stakeholders can provide input on the design of National TPM Implementation Review Survey by:

1. Submitting comments on the draft survey questions and survey design report to the docket.

2. Participating in one of two webinar listening sessions on the design of the National TPM Implementation Review Survey. The date and time of these webinars will be advertised at www.fhwa.dot.gov/TPM. To receive an email notification announcing the date and time of these webinar listening sessions, please visit www.fhwa.dot.gov/TPM and subscribe to email updates.

To address the concern on the timing of the National TPM Implementation Review Survey, FHWA decided to delay administering the review until after publication of the Statewide and Nonmetropolitan Transportation Planning; Metropolitan Transportation Planning Final Rulemaking.

In addition to the more formal National TPM Implementation Review Survey, FHWA will conduct informal voluntary TPM State-of-Practice Questionnaires related to ongoing TPM policy and guidance, technical assistance, and capacity needs. To address concerns expressed by stakeholders regarding the burden of effort and administration of these additional questionnaires, FHWA is proposing to sequence the National TPM Implementation Review Survey and other State-of-the-Practice Questionnaires on a biennial cycle. Under this biennial cycle, the first National TPM Implementation Review Survey would be administered in 2016 and the follow-up in 2020. The smaller, less formal State-of-the-Practice Questionnaires would be administered in 2018 and 2022. The State-of-the-Practice Questionnaires are essential to helping FHWA coordinate with its many stakeholders to reduce duplicative survey efforts as the industry works to implement and understand the TPM practices.

Under this sequencing, the National TPM Implementation Review Survey will continue to serve the original purpose of allowing FHWA to evaluate the effectiveness of efforts to implement TPM and PBPP. The State-of-the-Practice Questionnaires will enable FHWA and its stakeholders to coordinate the collection of information necessary to advance the state-of-the-practice and further TPM capacity building efforts. This approach limits the number of TPM related surveys to 4 over a number of years:

• National TPM Implementation Review Survey (Baseline): 2016

• State-of-the-Practice Questionnaires: 2018

• National TPM Implementation Review Survey (Follow-up): 2020

• State-of-the-Practice Questionnaires: 2022

After each survey or questionnaire, FHWA and its stakeholders will explore how to better align the information collection requests with yet-to-be determined performance management reporting processes. The information will be collected from State, metropolitan, regional, local, and/or tribal transportation agencies via internet-based questionnaires or web applications and will be used to help FHWA and its partner organizations do the following:

• Strategically plan to meet ever growing demand for TPM technical assistance needs;

• Develop and refine TPM policy and guidance based on stakeholder feedback;

• Channel resources to meet capacity development and training needs; and

• Identify and prioritize TPM research needs.

Lastly, as part of FHWA's ongoing technical assistance efforts, a TPM Toolbox is being created to help FHWA's partners self-assess and benchmark their TPM implementation progress, capabilities, and gaps. The TPM Toolbox will also help FHWA streamline the integration and administration of all the efforts described above. To maximize the effectiveness and efficiency of the TPM Toolbox, FHWA will collect business contact and organizational demographic (size of organization, location, etc.) information along with the responses submitted as part of the TPM Toolbox's self-assessment applications.

Respondents: The 975 respondents estimate is based on soliciting input from 52 STA, 409 MPOS, and a sampling of other State and local transportation entities. In most cases, only STAs and MPOs will be surveyed.

Frequency: Agencies will be solicited to provide information via a survey 1 time every two years. Additionally, transportation agencies may submit information more frequently by using the TPM Toolbox's self-assessment tool.

Estimated Average Burden per Response: The estimated average annual burden hours is up to 20 hours per response during a year with a survey/questionnaire request.

Estimated Total Annual Burden Hours: The estimated total annual burden hours for all respondents is estimated to be 19,500 burden hours (975 respondents × 20 burden hours) per year with survey/questionnaire requests.

Professional Staff Time during a Survey Year:

• 20 hours/respondent × 975 respondents × 1 questionnaire during a survey year = 19,500 hours.

Clerical Staff Time during a Survey Year:

• 2 hours/respondent × 975 respondents × 1 questionnaire during a survey year = 1,950 hours.

The aggregated associated salary cost to all respondents (975) during a survey year is estimated to be $1,032,213 based on an average salary of $38 per hour (approximately $79,000 per year) for professional staff and $18 per hour (approximately $37,000 per year) for clerical staff. Disaggregated, the total average annual cost per respondent during a survey year is estimated to be $1,058.68. The burden hours and costs are illustrated below.

Professional Staff Cost during a Survey Year:

• All respondents: 19,500 hours × $38 per hour = $741,000.

○ Per respondent: (20 × $38 = $760).

Clerical Staff Cost during a Survey Year:

• All respondents: 1,950 hours × $18 per hour = $35,100.

○ Per respondent (2 hours × $18 per hour = $36).

Total Annual Cost during a Survey Year:

• Subtotal Direct Salaries (Professional + Clerical) $776,100.

• Overhead/fringe benefits at 33%: $256,113.

• Total annual respondents cost during survey year: $1,032,213.

○ Total average annual cost per respondent during survey year: $1,058.68.

Public Comments Invited: You are asked to comment on any aspect of this information collection, including: (1) Whether the proposed collection of information is necessary for the U.S. DOT's performance, including whether the information will have practical utility; (2) the accuracy of the U.S. DOT's estimate of the burden of the proposed information collection; (3) ways to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; and 49 CFR 1.48.

Issued on: April 27, 2016.
Michael Howell,
Information Collection Officer.

[FR Doc. 2016-10296 Filed 5-2-16; 8:45 am]

BILLING CODE 4910-22-P